INTERNATIONAL TRADE COMMISSION

[Investigation No. 337-TA-561]

In the Matter of Certain Combination Motor and Transmission Systems and Devices Used Therein, and Products Containing the Same; Notice of Commission Decision to Review in Part and on Review to Modify a Final Initial Determination Finding No Violation of Section 337

AGENCY: U.S. International Trade Commission.

ACTION: Notice.

SUMMARY: Notice is hereby given that the U.S. International Trade Commission has determined to review in part the presiding administrative law judge's (“ALJ”) initial determination (“ID”) finding no violation of Section 337 of the Tariff Act of 1930 (19 U.S.C. **1337) with regard to the above-captioned investigation. On review, the Commission has determined to take no position on the ALJ's findings concerning the economic prong of the domestic industry requirement. Accordingly, the Commission has terminated the investigation with a finding of no violation of Section 337.

FOR FURTHER INFORMATION CONTACT: Christal A. Sheppard, Esq., Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on February 7, 2006, based on a complaint filed by Solomon Technologies, Inc., of Tarpon Springs, Florida (“Solomon”). The complaint, as amended, alleged violations of Section 337 of the Tariff Act of 1930 (19 U.S.C. 1337) in the importation into the United States, the sale for importation, and the sale within the United States after importation of certain combination motor and transmission systems and devices used therein, and products containing same by reason of infringement of claims 1-5, 7, 8, 10, and 12 of United States Patent No. 5,067,932 (“the '932 patent”). 71 FR 7574. Only claim 7 of the '932 patent was asserted against the respondents at the hearing. However, Solomon relied upon claim 1 of the patent-in-suit to meet the technical prong of the domestic industry requirement. The amended complaint named Toyota Motor Corporation of Japan; Toyota Motor Engineering & Manufacturing North America, Inc. of Erlanger, Kentucky; Toyota Motor Manufacturing Kentucky, Inc. of Georgetown, Kentucky; and Toyota Motor Sales, U.S.A., Inc., of Torrance, California as respondents.

On February 13, 2007, the ALJ issued an ID finding no violation of Section 337 with regard to respondents' products because he found claim 7 to be invalid and not infringed. Moreover, he found no domestic industry involving the asserted patent. Complainants and the Office of Unfair Import Investigations (“OUII”) each filed petitions for review on February 26, 2007. Respondents filed a joint reply on March 5, 2007. Also on March 5, 2007, OUII filed a response to Solomon's petition for review and Solomon filed a response to OUII's petition for review.

Having considered the petitions for review, the oppositions thereto, and the relevant portions of the record, the Commission has determined to review the ID in part. On review, the Commission has determined to take no position on the ALJ's findings concerning the economic prong of the domestic industry requirement. The remainder of the ID has become the Commission's final determination. See 19 CFR 210.42(h).

This action is taken under the authority of section 337 of the Tariff Act of 1930, as amended, 19 U.S.C. 1337, and sections 210.42(c) and (h) of the Commission's Rules of Practice and Procedure, 19 CFR 210.42(c) and (h).

Issued: April 30, 2007.
By order of the Commission.
Marilyn R. Abbott,
Secretary to the Commission.

[FR Doc. E7-8621 Filed 5-4-07; 8:45 am]

BILLING CODE 7020-02-P